DEPARTMENT OF THE INTERIOR

Bureau of Land Management

[UT-080-1610-DP-010J]

Supplement to Notice of Availability of the Draft Resource Management Plan and Draft Environmental Impact Statement for the Vernal Field Office To List Proposed Areas of Critical Environmental Concern and Specific Associated Resource Use Limitations for Public Lands in Daggett, Duchesne, Uintah and Grand Counties, UT

AGENCY: Bureau of Land Management, Interior.

ACTION: Notice of availability.

SUMMARY: A notice of availability for the Draft Resource Management Plan (RMP) and Environmental Impact Statement (EIS) for the Vernal Field Office planning area in Daggett, Duchesne, and Uintah Counties, Utah was published in the Federal Register, volume 70, number 10, on Friday, January 14, 2005. This supplements that Notice with information on existing and potential Areas of Critical Environmental Concern (ACECs) considered within the Draft RMP and EIS, as required in 43 CFR 1610.7-2. The CFR also provides an associated 60-day comment period on the potential ACECs.

DATES: The comment period will commence with the publication of this notice in the Federal Register and end 60 days after its publication.

ADDRESSES: Written comments on ACECs should be sent to the Bureau of Land Management, Vernal Field Office, 170 South 500 East, Vernal, UT 84078; Fax 435-781-4410. If you have already submitted comments during the comment period for the Draft RMP and EIS held from January 14, 2005, to June 24, 2005, they will be considered for the Proposed RMP and Final EIS, and there is no need to resubmit them in response to this notice.

Comments, including names and street addresses of respondents, will be available for public review at the Vernal Field Office during regular business hours, 8 a.m. to 4:30 p.m., Monday through Friday, except holidays and will be subject to disclosure under the Freedom of Information Act (FOIA). They may be published as part of the EIS and other related documents. Individual respondents may request confidentiality with respect to their name, address, and phone number. If you wish to withhold your name or street address from public review and disclosure under the FOIA, you must state this prominently at the beginning of your written comment. Such requests will be honored to the extent allowed by law. All submissions from organizations or businesses will be made available for public inspection in their entirety.

FOR FURTHER INFORMATION CONTACT: Jerry Kenczka, Planner, BLM Vernal Field Office, 170 South 500 East, Vernal, UT 84078, phone 435-781-4400.

SUPPLEMENTARY INFORMATION: The Vernal Field Office planning area includes all of the public land and Federal mineral ownership managed by the Vernal Field Office in Daggett, Duchesne, and Uintah Counties, in northeast Utah, and about 3,000 acres in Grand County. This area includes approximately 1.8 million acres of BLM administered surface lands and 2.1 million acres of Federal mineral lands under Federal, state, private, and Ute Tribal surface in the four county areas.

The Draft RMP/EIS addresses four alternatives and provides proposed management decisions and impact analysis of the alternatives. The number and acreages of ACECs that would be designated vary by alternative. For example, Alternative D would designate seven ACECs comprising 165,944 public surface acres, while Alternative C would designate 13 ACECs comprising 681,310 acres. Resource use limitations often vary by ACEC and alternative as well.

There are presently 7 designated ACECs (165,944 acres) in the Vernal Field Office, which were established by the Diamond Mountain Resource Management Plan (RMP) (1994). These are reflected in the No Action Alternative (Alternative D) of the Draft RMP and EIS. There are also 6 potential ACECs (515,366 acres), each of which is being considered in at least one alternative. Specific ACEC proposals, including resource use limitations, are described in detail by alternative in Chapter 2 of the Draft RMP/EIS. A summary of this information follows:

The 7 currently designated ACECs that are being reconsidered are as follows (acreage figures shown are for existing ACEC boundaries): Red Mountain-Dry Fork ACEC (24,285 acres), Nine Mile Canyon ACEC (44,181 acres), Browns Park ACEC (52,721 acres), Lower Green River ACEC (8,470 acres), Lears Canyon ACEC (1,375 acres) and Pariette Wetlands ACEC (10,437 acres), and the Red Creek Watershed ACEC (24,475 acres). Resource use limitations for these ACECs would vary by alternative, and relate to oil and gas leasing, visual resource management (VRM) and management of off-highway vehicle (OHV) use. In addition, there are limitations regarding disposal of mineral materials within the Lears Canyon and Pariette Wetlands ACECs. The Red Mountain-Dry Fork ACEC, Browns Park ACEC, Lears Canyon ACEC, Pariette Wetlands ACEC, Red Creek Watershed ACEC, and Nine Mile Canyon ACEC would continue to be designated in all alternatives, although boundaries and acreages vary by alternative for the Nine Mile Canyon and Brown's Park ACEC. The Lower Green River ACEC would continue to be designated in Alternatives A, C, and D, and boundaries and acreages for this ACEC would vary by alternative.

The 6 potential ACECs being considered are as follows: Middle Green River Potential ACEC (6,768 acres), Four Mile Wash Potential ACEC (50,280 acres), Main Canyon Potential ACEC (100,915 acres), Coyote Basin Potential ACEC, White River Potential ACEC, and Bitter Creek Potential ACEC. Boundaries and acreages would vary by alternative for the Coyote Basin, White River, and Bitter Creek Potential ACECs. When included in more than one alternative, resource use limitations for these ACECs would vary and relate to oil and gas leasing, visual resource management, and management of OHV use.

Dated: October 18, 2005.
Jeff Rawson,
Acting State Director.

[FR Doc. E5-7253 Filed 12-12-05; 8:45 am]

BILLING CODE 4310-DK-P